DEPARTMENT OF AGRICULTURE

Natural Resources Conservation Service

Notice of Availability of the Final Supplemental Environmental Impact Statement for the Little Otter Creek Watershed Plan, Caldwell County, Missouri

AGENCY: Natural Resources Conservation Service (NRCS), U.S. Department of Agriculture (USDA).

ACTION: Notice of availability for the Final Supplemental Environmental Impact Statement (FSEIS).

SUMMARY: NRCS announces the availability of the FSEIS for the Little Otter Creek Watershed Plan (LOCWP), Caldwell County, Missouri, involving the proposed construction of a multi-purpose reservoir. The purpose of this supplement is to address changes which have occurred since NRCS prepared the LOCWP and Environmental Impact Statement in 2003. The FSEIS updates the original EIS with more recent relevant environmental information and expands the alternatives analysis beyond those previously considered. The FSEIS evaluates reasonable and practicable alternatives and their expected environmental impacts under the Environmental Impact Statement (EIS) provisions of the Council on Environmental Quality.

DATES: We will consider comments that we receive by December 26, 2019.

ADDRESSES: We invite you to submit comments on this notice. In your comments, include the volume, date, and page number of this issue of the Federal Register. Comments may be submitted by the following methods:

• Federal eRulemaking Portal: Go to https://www.regulations.gov/ and search for Docket ID NRCS-2019-0019. Follow the instructions for submitting comments.

NRCS will post all comments on http://www.regulations.gov. Copies of the FSEIS are available at: http://tiny.cc/1fd33y.

FOR FURTHER INFORMATION CONTACT: Chris Hamilton, Assistant State Conservationist, Water Resources and Easements, at chris.hamilton@usda.gov or (573) 876-0912. Persons with disabilities who require alternative means for communication should contact the USDA Target Center at (202) 720-2600 (voice).

SUPPLEMENTARY INFORMATION:

Background

The NRCS in cooperation with the Caldwell County Commission, Caldwell County Soil and Water Conservation District, and the U.S. Army Corps of Engineers (USACE) has prepared a FSEIS for the LOCWP in Caldwell County, Missouri authorized pursuant to the Watershed Protection and Flood Prevention Act, Public Law 83-566, (16 U.S.C. 1001-1008). The NRCS determined that additional analysis was required and that the purposes of the National Environmental Policy Act (NEPA) would be furthered through the preparation of a FSEIS. The USACE is a cooperating federal agency in the preparation of the FSEIS. The FSEIS has considered all reasonable and practicable alternatives to meet the purpose and need for the Federal action. The FSEIS has assessed the potential social, economic, and environmental impacts of the project, and addressed Federal, State, and local regulatory requirements along with pertinent environmental and socio-economic issues. The FSEIS analyzed the direct, indirect, and cumulative effects of the proposed action.

A Notice of Intent to prepare a Supplemental Environmental Impact Statement for the LOCWP was published in the Federal Register on December 23, 2013. A Notice of Availability of the Draft Supplemental Environmental Impact Statement (DSEIS) for the LOCWP was published in the Federal Register on March 29, 2019. A public open house was held from 3:00 p.m. to 8:00 p.m. on Thursday, May 2, 2019, at Kingston, Missouri to answer questions and solicit comments on the DSEIS document. The 45-day public comment period ended on May 13, 2019. NRCS has responded to all substantive comments received. Copies of comments received and NRCS responses to those comments appear in Appendix C of the FSEIS.

The 6,323-acre Little Otter Creek Watershed is located two miles east of Hamilton in Caldwell County in northwest Missouri. It is a tributary to Otter Creek which drains to Shoal Creek; the Grand River, and the Missouri River.

Engineering reports dating back nearly 50 years document water supply problems in Caldwell County. Underlying geologic formations severely limit groundwater quality and availability. The Missouri Drought Plan places Caldwell County in a region classified as having “severe surface and groundwater supply drought vulnerability.” Digital models estimate that existing water sources could supply only 37 percent of the county's demand during the drought of record. In addition, the LOCWP documented annual flood damages to crop and pasture land, fences, roads and bridges. The LOCWP also identified the need for additional recreational opportunities in the surrounding area.

At the request of the Caldwell County Commission and the Caldwell County Soil and Water Conservation District, the NRCS began watershed planning activities in July 2000 under the authority of the Watershed Protection and Flood Prevention Act of 1954, Public Law 83-566, as amended (16 U.S.C. 1001-1008). NRCS issued a Notice of Intent to prepare an Environmental Impact Statement in July of 2002. On August 6, 2002, the voters of Caldwell County approved a one-half percent sales tax to assist in funding the local match for project installation. NRCS completed the LOCWP and Environmental Impact Statement in March 2003 and announced a Record of Decision to proceed with installation in May 2003. The project has not been installed because sufficient funding has not been available. Installation of the proposed action will result in temporary and permanent impacts to jurisdictional waters of the United States requiring a Clean Water Act (CWA) Section 404 permit. The USACE has not issued a Section 404 permit for this project. Comments received during the EIS process suggested that a larger number of reasonable and practicable alternatives be considered. Potential impacts of all reasonable and practicable alternatives have been updated and analyzed in the SEIS in compliance with Section 404(b)(1) of the CWA. The USACE and the U.S. Environmental Protection Agency (EPA) completed an Approved Jurisdictional Determination in March 2010.

Proposed Action

The proposed Federal action as presented in the 2003 EIS includes one approximately 362-acre multiple-purpose reservoir on Little Otter Creek, a water intake structure, a raw water line, fish and wildlife habitat enhancement, and recreational facilities. The purpose of the proposed Federal action is to:

• Provide approximately 1.24 million gallons per day of locally-controlled raw water supply to meet the projected 50-year usage demand for Caldwell County;

• Provide approximately 60,000 annual recreational user-days; and

• Provide an approximate 96 percent reduction in annual flood damages in the 3.8 miles of Little Otter Creek between the reservoir and the confluence with Otter Creek.

Alternatives

The SEIS evaluated environmental impacts of the following alternatives and other action alternatives identified that were reasonable and practicable:

(1) Creation of a multi-purpose reservoir;

(2) A combination of independent purpose alternatives to meet the overall project purposes and needs; and

(3) The no-action alternative.

The SEIS identified the National Economic Development alternative, which is the alternative with the greatest net economic benefit consistent with protecting the Nation's environment and documents the estimated direct, indirect and cumulative impacts of the proposed action and alternatives on the environment.

Scoping

In developing the LOCWP, numerous scoping meetings were held to gather public input and keep the community informed on the status of project planning activities. Several community surveys and interviews were conducted to gather information, and periodic news articles were published to update local citizens. The Caldwell County Lake Project Steering Committee was formed to further insure public input into the planning process. A public open house was held from 3:00 p.m. to 8:00 p.m. on Thursday, May 2, 2019, at Kingston, Missouri, to answer questions and solicit comments on the DSEIS document. NEPA procedures do not require additional public scoping meetings for the development of a SEIS and none are planned at this time. Comments received were used to revise the Draft and Final SEIS.

Public Involvement

The NRCS invites full public participation to promote open communication and better decision-making. All persons and organizations with an interest in the LOCWP are urged to comment. Public comments are welcome, and comments may be submitted to the NRCS for 30 days after publication of the Final SEIS. Distribution of the comments received will be included in the Administrative Record without change and may include any personal information provided, unless the commenter indicates that the comment includes information claimed to be confidential business information.

Other Environmental Review and Coordination Requirements

The USACE is a cooperating agency in the preparation of the FSEIS. The NRCS as the lead Federal agency will continue to coordinate with other agencies and entities throughout the NEPA process including: Caldwell County Commission, Missouri Department of Natural Resources, Missouri Department of Conservation, U.S. Fish and Wildlife Service, and EPA. The FSEIS addresses project compliance with applicable laws and regulations, including NEPA, CWA, Endangered Species Act, and the National Historic Preservation Act.

Permits or Licenses Required

The proposed Federal action requires a CWA Section 404 permit from the USACE. The project also requires certification by the State of Missouri, Department of Natural Resources, under Section 401 of the CWA, that the project would not violate State water quality standards. A land disturbance permit issued by the Missouri Department of Natural Resources under Section 402 of the CWA (National Pollutant Discharge Elimination System Permit) is required. Construction and Safety Permits issued by the Missouri Dam and Reservoir Safety Program are also required.

Serapio Flores,
Missouri State Conservationist, Natural Resources Conservation Service.

[FR Doc. 2019-25557 Filed 11-22-19; 8:45 am]

BILLING CODE 3410-16-P